ENVIRONMENTAL PROTECTION AGENCY

[EPA-HQ-OPP-2014-0479; FRL-9916-07]

Agency Information Collection Activities; Proposed Collection; Comment Request Reporting in the FIFRA Cooperative Agreement Work Plan and Report Template OMB Control No. 2070-NEW

Correction

In notice document 2014-30685 appearing on pages 40 through 41 in the issue of Friday, January 2, 2015, make the following correction:

1. On page 40, in the third column, in the DATES section, “March 3, 2014” should read “March 3, 2015”

[FR Doc. C1-2014-30685 Filed 1-7-15; 8:45 am]

BILLING CODE 1501-01-D